INTERNATIONAL TRADE COMMISSION

[Inv. No. 337-TA-445]

Certain Plasma Display Panels and Products Containing Same; Notice of Investigation

AGENCY: U.S. International Trade Commission.

ACTION: Institution of investigation pursuant to 19 U.S.C. § 1337.

SUMMARY: Notice is hereby given that a complaint was filed with the U.S. International Trade Commission on December 21, 2000, under section 337 of the Tariff Act of 1930, as amended, 19 U.S.C. § 1337, on behalf of the Board of Trustees of the University of Illinois, of Urbana, Illinois, and Competitive Technologies, Inc., of Fairfield, Connecticut. Supplements to the complaint were filed on December 28, 2000 and January 3, 2001. The complaint, as supplemented, alleges violations of section 337 in the importation into the United States, the sale for importation, and the sale within the United States after importation of certain plasma display panels and products containing same by reason of infringement of claims 22-26, 28-33, 36, and 38-41 of U.S. Letters Patent 5,081,400 and claims 10-11 of U.S. Letters Patent 4,866,349. The complaint further alleges that an industry in the United States exists as required by subsection (a)(2) of section 337.

The complainants request that the Commission institute an investigation and, after the investigation, issue a permanent exclusion order and permanent cease and desist orders.

ADDRESSES: The complaint and supplements, except for any confidential information contained therein, are available for inspection during official business hours (8:45 a.m. to 5:15 p.m.) in the Office of the Secretary, U.S. International Trade Commission, 500 E Street, SW., Room 112, Washington, DC 20436, telephone 202-205-2000. Hearing-impaired individuals are advised that information on this matter can be obtained by contacting the Commission's TDD terminal on 202-205-1810. Persons with mobility impairments who will need special assistance in gaining access to the Commission should contact the Office of the Secretary at 202-205-2000. General information concerning the Commission may be obtained by accessing its internet server (http://www.usitc.gov).

FOR FURTHER INFORMATION CONTACT: Steven A. Glazer, Esq., Office of Unfair Import Investigations, U.S. International Trade Commission, telephone 202-205-2577.

Authority: The authority for institution of this investigation is contained in section 337 of the Tariff Act of 1930, as amended, and in section 210.10 of the Commission's Rules of Practice and Procedure, 19 CFR § 210.10 (2000).

Scope of Investigation: Having considered the complaint, the U.S. International Trade Commission, on January 16, 2001, Ordered That—

(1) Pursuant to subsection (b) of section 337 of the Tariff Act of 1930, as amended, an investigation be instituted to determine:

(a) whether there is a violation of subsection (a)(1)(B) of section 337 in the importation into the United States, the sale for importation, or the sale within the United States after importation of certain plasma display panels or products containing same by reason of infringement of claims 22-26, 28-33, 36, or 38-41 of U.S. Letters Patent 5,081,400 or claims 10-11 of U.S. Letters Patent 4,866,349, and whether there exists an industry in the United States as required by subsection (a)(2) of section 337.

(2) For the purpose of the investigation so instituted, the following are hereby named as parties upon which this notice of investigation shall be served:

(a) The complainants are—The Board of Trustees of the University of Illinois, 352 Henry Administration Building, 506 South Wright Street, Urbana, Illinois 61801; and Competitive Technologies, Inc., 1960 Bronson Road, Fairfield, Connecticut 06430.

(b) The respondents are the following companies alleged to be in violation of section 337, and are the parties upon which the complaint is to be served: Fujitsu Limited, 6-1, Marunouchi 1-chome, Chiyoda-Ku, Tokyo 100-8211, Japan; Fujitsu General Limited, 1116, Svenaga, Takatsu-ku, Kawasaki, 213 Japan; Fujitsu General America Corp., 353 Route 46 West, Fairfield, New Jersey 07004; and Fujitsu Microelectronics, Inc., 3545 N. First Street, San Jose, California 95134.

(c) Steven A. Glazer, Esq., Office of Unfair Import Investigations, U.S. International Trade Commission, 500 E Street, SW., Room 401-K, Washington, DC 20436, who shall be the Commission investigative attorney, party to this investigation; and

(3) For the investigation so instituted, the Honorable Debra Morriss is designated as the presiding administrative law judge.

Responses to the complaint and the notice of investigation must be submitted by the named respondents in accordance with section 210.13 of the Commission's Rules of Practice and Procedure, 19 CFR § 210.13. Pursuant to 19 CFR §§ 201.16(d) and 210.13(a) of the Commission's Rules, such responses will be considered by the Commission if received not later than 20 days after the date of service by the Commission of the complaint and the notice of investigation. Extensions of time for submitting a response to the complaint will not be granted unless good cause therefor is shown.

Failure of any respondent to file a timely response to each allegation in the complaint and in this notice may be deemed to constitute a waiver of the right to appear and contest the allegations of the complaint and this notice, and to authorize the administrative law judge and the Commission, without further notice to the respondent, to find the facts to be as alleged in the complaint and this notice and to enter both an initial determination and a final determination containing such findings, and may result in the issuance of a limited exclusion order or a cease and desist order or both directed against such respondent.

Issued: January 16, 2001.
By order of the Commission.
Donna R. Koehnke,
Secretary.

[FR Doc. 01-1784 Filed 1-19-01; 8:45 am]

BILLING CODE 7020-02-P